DEPARTMENT OF COMMERCE

International Trade Administration

(A-427-801)

Ball Bearings and Parts Thereof from France: Initiation of an Antidumping Duty Changed-Circumstances Review

AGENCY: Import Administration, International Trade Administration, Department of Commerce.

SUMMARY: In response to a request for a changed-circumstances review from Societe Nouvelle de Fabrication Aeronautique S.A.S.U., SKF France S.A., and SKF Aerospace France S.A.S. and pursuant to section 751(b) of the Tariff Act of 1930, as amended, and 19 CFR § 351.216 and 351.221(c)(3), the Department of Commerce is initiating a changed-circumstances review of the antidumping duty order on ball bearings and parts thereof from France.

EFFECTIVE DATE: March 2, 2007.

FOR FURTHER INFORMATION CONTACT: Edythe Artman at (202) 482-3931 or Richard Rimlinger at (202) 482-4477, AD/CVD Operations, Office 5, Import Administration, International Trade Administration, U.S. Department of Commerce, 14th Street and Constitution Avenue, NW, Washington, DC 20230.

SUPPLEMENTARY INFORMATION:

Background

The Department of Commerce (the Department) published antidumping duty orders on ball bearings, cylindrical roller bearings, and spherical plain bearings and parts thereof from France on May 15, 1989. See Antidumping Duty Orders: Ball Bearings, Cylindrical Roller Bearings, Spherical Plain Bearings, and Parts Thereof From France, 54 FR 20902 (May 15, 1989). The order on cylindrical roller bearings and parts thereof from France was revoked, effective January 1, 2000. See Revocation of Antidumping Duty Orders on Certain Bearings From Hungary, Japan, Romania, Sweden, France, Germany, Italy, and the United Kingdom, 65 FR 42667 (July 11, 2000). The order on spherical plain bearings and parts thereof from France was also revoked, effective July 11, 2005. See Antifriction Bearings and Parts Thereof from France and Singapore: Revocation of Antidumping Duty Orders, 71 FR 54468 (September 15, 2006).

Societe Nouvelle de Fabrication Aeronautique S.A.S.U. (SNFA) and SKF France S.A. have participated in numerous administrative reviews of the order on ball bearings and parts thereof from France. On August 11, 2000, the Department revoked the order, effective May 1, 1999, with respect to sales of bearings by SNFA. See Antifriction Bearings (Other Than Tapered Roller Bearings) and Parts Thereof from France, Germany, Italy, Japan, Romania, Singapore, Sweden and the United Kingdom; Final Results of Antidumping Duty Administrative Reviews and Revocation of Orders in Part, 65 FR 49219 (August 11, 2000).

On January 9, 2007, SNFA and SKF France S.A. and SKF Aerospace France S.A.S. (collectively SKF France) requested that the Department initiate and conduct a changed-circumstances review in order to determine that, for purposes of the order on ball bearings and parts thereof, SNFA is not a successor-in-interest to SKF France following SNFA's acquisition by that company and that it is the successor-in-interest to the pre-acquisition SNFA.

We did not receive any other comments.

Scope of the Order

The products covered by these orders are ball bearings (other than tapered roller bearings) and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS item numbers above are provided for convenience and customs purposes, written descriptions of the scope of this order remain dispositive.

For a listing of scope determinations which pertain to the order on ball bearings and parts thereof, see the Scope Determination Memorandum (Scope Memorandum) from the Antifriction Bearings Team to Laurie Parkhill, dated March 2, 2006. The Scope Memorandum is on file in the Central Records Unit (CRU), main Commerce building, Room B-099, in the General Issues record (A-100-001) for the 2004/2005 administrative reviews of the orders on antifriction bearings.

Initiation of Changed-Circumstances Review

Pursuant to section 751(b)(1) of the Tariff Act of 1930, as amended (the Act), and 19 CFR § 351.216 (2005), the Department will conduct a changed-circumstances review upon receipt of information concerning, or a request from an interested party for a review of, an antidumping duty order which shows changed circumstances sufficient to warrant a review of the order. SNFA and SKF France claim that they have satisfied the criteria to warrant such a review. See 19 CFR § 351.216(d). We agree that the information submitted by SNFA and SKF France demonstrates changed circumstances sufficient to warrant a review. Therefore, in accordance with the above-referenced regulation, the Department is initiating a changed-circumstances review.

SNFA and SKF France also claim that the information contained in their January 9, 2007, request demonstrates that the post-acquisition SNFA is the successor-in-interest to the pre-acquisition SNFA. The requesting parties ask that the Department thus refrain from issuing a changed-circumstances questionnaire. The Department finds that the request does not clearly establish the entity to which SNFA is the successor-in-interest. Therefore, in accordance with 19 CFR § 351.221(b)(2) and (4) and 19 CFR § 351.221(c)(3)(i), we will issue a questionnaire requesting factual information for the review and will publish a notice of preliminary results of the antidumping duty changed-circumstances review in the Federal Register. The notice will set forth the factual and legal conclusions upon which our preliminary results are based. Pursuant to 19 CFR § 351.221(b)(4)(ii), interested parties will have an opportunity to comment on the preliminary results of review. We will issue final results of review no later than the regulatory deadline in accordance with 19 CFR § 351.216(e). During the course of this antidumping duty changed-circumstances review, we will not change the cash-deposit requirements for the subject merchandise. The cash-deposit rate will be altered, if warranted, pursuant only to the final results of this review.

This notice of initiation is in accordance with section 751(b)(1) of the Act, 19 CFR § 351.216(b) and (d), and 19 CFR § 351.221(b)(1).

Dated: February 23, 2007.
David M. Spooner,
Assistant Secretary for Import Administration.

[FR Doc. E7-3697 Filed 3-1-07; 8:45 am]

BILLING CODE 3510-DS-S